DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more individuals and entities that have been placed on OFAC's Specially Designated Nationals and Blocked Persons List (SDN List). OFAC has determined that one or more applicable legal criteria were satisfied to place the individuals and entities on the SDN List. All property and interests in property subject to U.S. jurisdiction of these individuals and entities are blocked, and U.S. persons are generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On July 17, 2020, OFAC determined that the property and interests in property subject to U.S. jurisdiction of the following individuals and entities are blocked under the relevant sanctions authorities listed below.

Individuals

1. ORTEGA MURILLO, Juan Carlos, Montoya 1 Csur 1c Arriba 1 C Sur, Managua, Nicaragua; DOB 17 Oct 1981; POB Managua, Nicaragua; nationality Nicaragua; Gender Male; Passport A0007589 (Nicaragua) issued 28 Feb 2007 expires 27 Feb 2012 (individual) [NICARAGUA].

Designated pursuant to section 1(a)(i)(D) of Executive Order 13851 of November 27, 2018, “Blocking Property of Certain Persons Contributing to the Situation in Nicaragua,” 83 FR 61505, (“E.O. 13851”), for being responsible for or complicit in, or having directly or indirectly engaged or attempted to engage in, any transaction or series of transactions involving deceptive practices or corruption by, on behalf of, or otherwise related to the Government of Nicaragua or a current or former official of the Government of Nicaragua, such as the misappropriation of public assets or expropriation of private assets for personal gain or political purposes, corruption related to government contracts, or bribery.

2. MOJICA MEJIA, Jose Jorge, Carretera Sur. Kilometro 7.5, Colonia Frawley, Frente a Gasolinera Uno, Managua, Nicaragua; DOB 10 Oct 1966; POB Managua, Nicaragua; nationality Nicaragua; Gender Male; Passport C02366793 (Nicaragua) issued 14 Jun 2018 expires 14 Jun 2028 (individual) [NICARAGUA].

Designated pursuant to section 1(a)(i)(D) of E.O. 13851 for being responsible for or complicit in, or having directly or indirectly engaged or attempted to engage in, any transaction or series of transactions involving deceptive practices or corruption by, on behalf of, or otherwise related to the Government of Nicaragua or a current or former official of the Government of Nicaragua, such as the misappropriation of public assets or expropriation of private assets for personal gain or political purposes, corruption related to government contracts, or bribery.

Entities

1. DIFUSO COMUNICACIONES S.A. (a.k.a. DIFUSO AUDIOVISUALES), Reparto El Carmen, De la Iglesia el Carmen, 1 cuadra al sur, 1 cuadra arriba, 1 cda al sur, Managua, Nicaragua; Registration ID J0310000147205 (Nicaragua) [NICARAGUA] (Linked To: ORTEGA MURILLO, Juan Carlos).

Designated pursuant to section 1(a)(v) of E.O. 13851 for being owned or controlled by, or having acted or purported to act for or on behalf of, directly or indirectly, ORTEGA MURILLO, Juan Carlos, a person whose property and interests in property are blocked pursuant to E.O. 13851.

2. MUNDO DIGITAL S.A. (a.k.a. SYDITEK MUNDO DIGITAL S.A.), Calle Central de Altamira del BDF 100 Mts Norte, Managua, Nicaragua; website www.syditek.com.ni; Registration ID J0310000131740 (Nicaragua) [NICARAGUA] (Linked To: MOJICA MEJIA, Jose Jorge).

Designated pursuant to section 1(a)(v) of E.O. 13851 for being owned or controlled by, or having acted or purported to act for or on behalf of, directly or indirectly, MOJICA MEJIA, Jose Jorge, a person whose property and interests in property are blocked pursuant to E.O. 13851.

Dated: July 17, 2020.
Andrea Gacki,
Director, Office of Foreign Assets Control, U.S. Department of the Treasury.

[FR Doc. 2020-15852 Filed 7-21-20; 8:45 am]

BILLING CODE 4810-AL-P